DEPARTMENT OF COMMERCE

International Trade Administration

[A-580-881]

Certain Cold-Rolled Steel Flat Products From the Republic of Korea: Partial Rescission of Antidumping Duty Administrative Review; 2018-2019

AGENCY: Enforcement and Compliance, International Trade Administration, Department of Commerce.

SUMMARY: The Department of Commerce (Commerce) is partially rescinding the administrative review of the antidumping duty order on certain cold-rolled steel flat products (cold-rolled steel) from the Republic of Korea (Korea) for the period of review (POR) September 1, 2018, through August 31, 2019.

DATES: Applicable October 7, 2020.

FOR FURTHER INFORMATION CONTACT: Michael J. Heaney or Marc Castillo, AD/CVD Operations, Office VI, Enforcement and Compliance, International Trade Administration, U.S. Department of Commerce, 1401 Constitution Avenue NW, Washington, DC 20230; telephone: (202) 482-4475 or (202) 482-0519, respectively.

SUPPLEMENTARY INFORMATION:

Background

On September 3, 2019, Commerce published a notice of opportunity to request an administrative review of the antidumping duty order on cold-rolled steel from Korea.¹ On November 12, 2019, pursuant to requests from interested parties, Commerce published in the Federal Register the notice of initiation of an antidumping duty administrative review with respect to 38 companies, in accordance with section 751(a) of the Tariff Act of 1930, as amended (the Act).² On February 5, 2020, all requests for an administrative review of 32 companies were timely withdrawn.³

¹ See Antidumping or Countervailing Duty Order, Finding, or Suspended Investigation; Opportunity To Request Administrative Review, 84 FR 45949 (September 3, 2019).

² See Initiation of Antidumping and Countervailing Duty Administrative Reviews, 84 FR 61011 (November 12, 2019) (Initiation Notice).

³ See ArcelorMittal USA LLC's, AK Steel Corporation's, Nucor Corporation's, Steel Dynamics, Inc.'s, and United States Steel Corporation's Letter, “Cold-Rolled Steel Flat Products from the Republic of Korea:, Petitioners' Partial Withdrawal of Request for Review,” dated February 5, 2020.

Partial Rescission of Administrative Review

Pursuant to 19 CFR 351.213(d)(1), Commerce will rescind an administrative review, in whole or in part, if the parties that requested a review withdraw the request within 90 days of the date of publication of the notice of initiation. All requests for review of the companies listed in the Appendix to this notice were withdrawn within 90 days of the publication of the Initiation Notice.⁴ Therefore, in accordance with 19 CFR 351.213(d)(1), we are rescinding this review with respect to the 32 companies listed in the Appendix to this notice.

⁴ Id.

The review will continue with respect to the following companies: Dongbu Incheon Steel Co., Ltd.; Dongbu Steel Co., Ltd.; Hyundai Steel Company; POSCO; POSCO Daewoo Corporation; and POSCO International Corporation.⁵

⁵ See Initiation Notice, 84 FR 61011.

Assessment

Commerce intends to instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). Commerce intends to issue appropriate assessment instructions to CBP 15 days after publication of this notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition or destruction of proprietary information disclosed under an APO in accordance with 19 CFR 351.305, which continues to govern business proprietary information in this segment of the proceeding. Timely written notification of the return or destruction of APO materials or conversion to judicial protective order is hereby requested. Failure to comply with the regulations and terms of an APO is a violation which is subject to sanction.

This notice is issued and published in accordance with sections 751(a)(1) and 777(i)(1) of the Act, and 19 CFR 351.213(d)(4).

Dated: October 2, 2020.
James Maeder,
Deputy Assistant Secretary for Antidumping and Countervailing Duty Operations.

Appendix

All requests for review for the following 32 companies were timely withdrawn:

1. AJU Steel Co., Ltd.

2. Ameri Source Korea

3. Busung Steel Co., Ltd.

4. Cenit Co., Ltd.

5. Daewoo Logistics Corporation

6. Dai Yang Metal Co., Ltd.

7. DK GNS Co., Ltd.

8. Dongkuk Industries Co., Ltd.

9. Dongkuk Steel Mill Co., Ltd.

10. GS Global Corporation

11. Hanawell Co., Ltd.

12. Hankum Co., Ltd.

13. Hyosung TNC Corporation

14. Hyundai BNG Steel Co., Ltd.

15. Hyundai Corporation

16. Hyundai Glovis Co., Ltd.

17. Hyundai Group

18. Hyundai HYSCO

19. Hyundai Motor Company

20. ILJIN NTS Co., Ltd.

21. ILJIN Steel Corporation

22. Jeen Pung Industrial Co., Ltd.

23. Kolon Global Corporation

24. Okaya Korea Co., Ltd.

25. PL Special Steel Co., Ltd.

26. POSCO Coated and Color Steel Co., Ltd.

27. Samsung C & T Corporation

28. Samsung STS Co., Ltd.

29. SeAH Steel Corporation

30. SK Networks Co., Ltd.

31. TGS Pipe Co., Ltd.

32. Tl Automotive Ltd.

[FR Doc. 2020-22180 Filed 10-6-20; 8:45 am]

BILLING CODE 3510-DS-P